DEPARTMENT OF DEFENSE

Office of the Secretary

[Transmittal Nos. 13-56]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-56 with attached transmittal, policy justification, and Sensitivity of Technology and the Section 620C(d).

Dated: May 15, 2014.
Aaron Siegel,
Alternate OSD Federal Register Liaison Officer, Department of Defense.

Transmittal No. 13-56

Notice of Proposed Issuance of Letter of Offer Pursuant to Section 36(b)(1) of the Arms Export Control Act, as amended

(i) Prospective purchaser: Republic of Turkey

(ii) Total Estimated Value

Major Defense Equipment * | $126 million
Other | $ 44 million
Total | $170 million
* As defined in Section 47(6) of the Arms Export Control Act.

(iii) Description and Quantity or Quantities of Articles or Services under Consideration for Purchase: Up to 48 MK 48 Mod 6 Advanced Technology All-Up-Round (AUR) Warshot Torpedoes, containers, fleet exercise sections, exercise fuel tanks, surface recovery cage and tools, exercise hardware, maintenance facility upgrades, support and test equipment, spare and repair parts, personnel training and training equipment, publications and technical documentation, U.S. Government and contractor engineering, technical, and logistics support services, and other related elements of logistics support.

(iv) Military Department: Navy (LLJ)

(v) Prior Related Cases: None

(vi) Sales Commission, Fee, etc., Paid, Offered, or Agreed to be Paid: None

(vii) Sensitivity of Technology Contained in the Defense Article or Defense Services Proposed to be Sold: See Annex attached

(viii) Date Report Delivered to Congress: 12 May 2014

POLICY JUSTIFICATION

Republic of Turkey—MK 48 TORPEDOES

The Government of Turkey has requested a possible sale of up to 48 MK 48 Mod 6 Advanced Technology All-Up-Round (AUR) Warshot Torpedoes, containers, fleet exercise sections, exercise fuel tanks, surface recovery cage and tools, exercise hardware, maintenance facility upgrades, support and test equipment, spare and repair parts, personnel training and training equipment, publications and technical documentation, U.S. Government and contractor engineering, technical, and logistics support services, and other related elements of logistics support. The total estimated cost is $170 million.

The Republic of Turkey is a partner of the United States in ensuring peace and stability in the region. It is vital to the U.S. national interest to assist our North Atlantic Treaty Organization (NATO) ally in developing and maintaining a strong and ready self-defense capability that will contribute to an acceptable military balance in the area. This proposed sale is consistent with those objectives.

The proposed sale will improve Turkey's capability for self defense, modernization, regional security, and interoperability with U.S. and other NATO members. Turkey will use the enhanced capability of the MK 48 Mod 6 Advanced Technology torpedoes on the new CERBE Class submarines (214 Type 1200). Turkey has significant experience in maintaining and supporting advanced torpedoes, particularly MK 46 Mod 5A(S)W and MK 54 Lightweight Torpedoes (LWT), and has capable infrastructure that will require minimal updates. Turkey is capable of integrating, employing, and maintaining the MK 48 Mod 6AT Torpedo.

The proposed sale of this equipment and support will not alter the basic military balance in the region.

The principal contractor will be Raytheon Company Integrated Defense Systems in Keyport, Washington; and Lockheed Martin Sippican in Marion, Massachusetts. There are no known offset agreements associated in connection with this proposed sale.

Implementation of this proposed sale will not require the assignment of any additional U.S. Government or contract representatives to Turkey; however, contractor engineering and technical services may be required on an interim basis for installations.

There will be no adverse impact on U.S. defense readiness as a result of this proposed sale.

Transmittal No. 13-56

Notice of Proposed Issuance of Letter of Offer Pursuant to Section 36(b)(1) of the Arms Export Control Act, as amended

Annex—Item No. vii

(vii) Sensitivity of Technology:

1. The MK48 torpedo variants are submarine-launched, heavyweight torpedoes designed for both Anti-Submarine Warfare (ASW) and Anti-Surface Warfare (ASUW) roles. The MK48 Mod 6 Cardbox (with software installed), Torpedo Operational software and Warhead Electronics Subsystem Software are classified Secret. The Sonar Array, Transmitter, and Warhead Electronics Subsystem are classified Confidential. A fully assembled torpedo is classified as Confidential for shipping purposes but contains Secret software stored internally. State of the art technology is used in the 6AT as it includes all upgrades from earlier variants of the MK 48 and inclusion of the Mod 4M quieting modifications and the capability to swim out of larger diameter torpedo tubes. Anti-tampering security measures have been incorporated into the MK 48 Mod 6AT torpedo to prevent exploitation of the advanced software and quieting technologies.

2. If a technologically advanced adversary were to obtain data on the torpedo, along with characteristics and performance data, systems and procedures could be developed for countermeasures that might reduce the torpedo's effectiveness. In addition, the information could be used to develop torpedo systems with similar performance capabilities. All such releases are closely monitored and tailored to eliminate or minimize this risk.

[FR Doc. 2014-11625 Filed 5-19-14; 8:45 am]

BILLING CODE 5001-06-P